ENVIRONMENTAL PROTECTION AGENCY

[ER-FRL-9016-9]

Environmental Impact Statements; Notice of Availability

Responsible Agency: Office of Federal Activities, General Information (202) 564-7146 or http://www.epa.gov/compliance/nepa/.

Weekly receipt of Environmental Impact Statements

Filed 09/01/2014 through 09/05/2014

Pursuant to 40 CFR 1506.9

Notice

Section 309(a) of the Clean Air Act requires that EPA make public its comments on EISs issued by other Federal agencies. EPA's comment letters on EISs are available at: http://www.epa.gov/compliance/nepa/eisdata.html.

EIS No. 20140255, Second Draft Supplement, USFS, UT, Ogden Ranger District Travel Plan Revision, Comment Period Ends: 10/27/2014, Contact: Rick Vallejos 801-625-5112.

EIS No. 20140256, Final EIS, USFS, AZ, New Special-Use Permits for Recreation Residences on the Safford Ranger District, Review Period Ends: 10/29/2014, Contact: Rachael Hohl 520-388-8352.

EIS No. 20140257, Draft EIS, USA, VA, Fort Belvoir Short-Term Projects and Real Property Master Plan Update, Comment Period Ends: 11/11/2014, Contact: Marc Russell 703-806-0022.

EIS No. 20140258, Final EIS, NPS, IN, Indiana Dunes National Lakeshore Shoreline Restoration and Management Plan, Review Period Ends: 10/14/2014, Contact: Paul Labovitz 219-395-1699.

EIS No. 20140259, Final EIS, NRC, PA, GENERIC—License Renewal of Nuclear Plants Regarding Limerick Generating Station, Units 1 and 2, Review Period Ends: 10/14/2014, Contact: Leslie Perkins 301-415-2375.

EIS No. 20140260, Draft EIS, BR, CA, Upper San Joaquin River Basin Storage Investigation, Comment Period Ends: 10/27/2014, Contact: Melissa Harris 916-978-5075.

EIS No. 20140261, Final EIS, NMFS, 00, Columbia River Basin Hatchery Operations and the Funding of Mitchell Act Hatchery Programs, Review Period Ends: 11/12/2014, Contact: James Dixon 360-534-9329.

EIS No. 20140262, Draft EIS, USFS, AK, Saddle Lakes Timber Sale, Comment Period Ends: 10/27/2014, Contact: Daryl Bingham 907-228-4114.

EIS No. 20140263, Draft EIS, USFS, SC, Chester County Stream and Riparian Restoration/Enhancement Project, Comment Period Ends: 10/27/2014, Contact: Jim Knibbs 803-561-4078.

Amended Notices

EIS No. 20140153, Draft EIS, NPS, NC, Cape Lookout National Seashore Off-Road Vehicle Management Plan, Comment Period Ends: 09/19/2014, Contact: Michael B. Edwards 303-969-2694. Revision to FR Notice Published on 07/25/2014; Extending Comment Period from 09/04/2014 to 09/19/2014.

EIS No. 20140243, Draft EIS, USFS, NV, CA, Heavenly Mountain Resort Epic Discovery Project, Comment Period Ends: 10/27/2014, Contact: Matt Dickinson 530-543-2769. Revision to FR Notice Published 09/03/2014; Extending the Comment Period from 10/21/2014 to 10/27/2014 and Correction to project location should be CA and NV.

Dated: September 9, 2014.
Cliff Rader,
Director, NEPA Compliance Division, Office of Federal Activities.

[FR Doc. 2014-21808 Filed 9-11-14; 8:45 am]

BILLING CODE 6560-50-P